ENVIRONMENTAL PROTECTION AGENCY

[EPA HQ-OPPT-2020-0078; FRL-10012-06-OMS]

Information Collection Request Submitted to OMB for Review and Approval; Comment Request; Toxic Chemical Release Reporting (Renewal)

AGENCY: Environmental Protection Agency (EPA).

ACTION: Notice.

SUMMARY: The Environmental Protection Agency (EPA) has submitted an information collection request (ICR), Toxic Chemical Release Reporting (EPA ICR Number 2613.02, OMB Control Number 2070-0212) to the Office of Management and Budget (OMB) for review and approval in accordance with the Paperwork Reduction Act. This is a proposed extension of the ICR, which is currently approved through July 31, 2020. This notice allows for an additional 30 days for public comments. A fuller description of the ICR is given below, including its estimated burden and cost to the public. An agency may not conduct, or sponsor and a person is not required to respond to a collection of information unless it displays a currently valid OMB control number.

DATES: Additional comments may be submitted on or before August 31, 2020.

ADDRESSES: Submit your comments to EPA, referencing Docket ID No. EPA-HQ-OPPT-2020-0078, online using www.regulations.gov (our preferred method), by email to oppt.ncic@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Cassandra Vail, Toxic Release Inventory Division, Office of Pollution Prevention and Toxics, Environmental Protection Agency, 1200 Pennsylvania Ave. NW, Washington, DC 20460; telephone number: 202-566-0753; email address: vail.cassandra@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Pursuant to section 313 of the Emergency Planning and Community Right-to-Know Act (EPCRA, 42 U.S.C. 11001 et seq.), certain facilities that manufacture, process, or otherwise use specified toxic chemicals in amounts above reporting threshold levels as provided in 40 CFR 372.25 must submit annually to EPA and to their designated state or Indian country officials toxic chemical release forms containing information specified by EPA; see 42 U.S.C. 11023. In addition, pursuant to section 6607 of the Pollution Prevention Act (PPA, 42 U.S.C. 13101 et seq.), facilities reporting under section 313 of EPCRA must also report pollution prevention and waste management data, including recycling information, for such chemicals; see 42 U.S.C. 13106. EPA compiles and stores these reports in a publicly accessible database known as the Toxics Release Inventory (TRI). Regulations at 40 CFR part 372, subpart B, require facilities that meet the above criteria to report annually.

This ICR consolidates the ICR for TRI Reporting currently approved by OMB under OMB Control No. 2025-0009, with the currently approved version of this ICR covering the TRI Reporting of additional chemicals. Upon OMB approval of this ICR, EPA intends to discontinue OMB Control No. 2025-0009.

Form Numbers: EPA Form 9350-1, EPA Form 9350-2, and EPA Form 9350-3.

Respondents/Affected Entities: Regulations at 40 CFR part 372, subpart B, require facilities that meet all the following criteria to report:

1. The facility has 10 or more full-time employee equivalents (i.e., a total of 20,000 hours worked per year or greater; see 40 CFR 372.3); and

2. The facility is included in a North American Industry Classification System (NAICS) Code listed at 40 CFR 372.23 or under Executive Order 13148, Federal facilities regardless of their industry classification; and

3. The facility manufactures (defined to include importing), processes, or otherwise uses any EPCRA section 313 (TRI) chemical in quantities greater than the established thresholds for the specific chemical in the course of a calendar year.

Respondent's obligation to respond: Mandatory (40 CFR 372).

Estimated number respondents: 76,534.

Frequency of response: Annual.

Total estimated burden: 3,615,128 hours (per year). Burden is defined at 5 CFR 1320.03(b).

Total estimated cost: $200,205,764 (per year), includes $0 annualized capital or operation & maintenance costs.

Changes in the Estimates: There is an increase of 3,597,275 hours. This ICR submittal merges the existing ICR (2025-0009, approved by OMB on October 15, 2018) into this ICR number (2070-0212), created to cover the expanded list of toxic chemicals subject to reporting under the NDAA for Fiscal Year 2020, to provide for a single control number. The burden levels already approved under the collections being consolidated in this ICR remain unchanged.

Courtney Kerwin,
Director, Regulatory Support Division.

[FR Doc. 2020-16581 Filed 7-30-20; 8:45 am]

BILLING CODE 6560-50-P